DEPARTMENT OF THE TREASURY

Office of Foreign Assets Control

Additional Designations of Individuals Pursuant to Executive Order 13448

AGENCY: Office of Foreign Assets Control, Treasury.

ACTION: Notice.

SUMMARY: The Treasury Department's Office of Foreign Assets Control (“OFAC”) is publishing the names of four newly-designated individuals whose property and interests in property are blocked pursuant to Executive Order 13448 of October 18, 2007, “Blocking Property and Prohibiting Certain Transactions Related to Burma.”

DATES: The designation by the Director of OFAC of eleven individuals identified in this notice, pursuant to Executive Orders 13448, is effective February 5, 2008.

FOR FURTHER INFORMATION CONTACT: Assistant Director, Compliance Outreach & Implementation, Office of Foreign Assets Control, Department of the Treasury, 1500 Pennsylvania Avenue, NW. (Treasury Annex), Washington, DC 20220, Tel.: 202/622-2490

SUPPLEMENTARY INFORMATION:

Electronic and Facsimile Availability

Information about these designations and additional information concerning OFAC are available from OFAC's Web site (www.treas.gov/ofac) or via facsimile through a 24-hour fax-on-demand service, Tel.: 202/622-0077.

Background

On October 18, 2007, the President signed Executive Order 13448 (the “Order”) pursuant to, inter alia, the International Emergency Economic Powers Act (50 U.S.C. 1701, et seq.). In the Order, the President took additional steps with respect to, and expanded, the national emergency declared in Executive Order 13047 of May 20, 1997, to address the Government of Burma's continued repression of the democratic opposition. The President identified twelve individuals and entities as subject to the economic sanctions in the Annex to the Order.

Section 1 of the Order blocks, with certain exceptions, all property and interests in property that are in, or hereafter come within, the United States, or within the possession or control of United States persons, of the persons listed in the Annex, as well as those persons determined by the Secretary of the Treasury, after consultation with the Secretary of State, to satisfy any of the criteria set forth in subparagraphs (b)(i)-(b)(vi) of Section 1. On February 5, 2008, the Director of OFAC exercised the Secretary of the Treasury's authority to designate, pursuant to one or more of the criteria set forth in Section 1, subparagraphs (b)(i)-(b)(vi) of the Order, the following four individuals, whose names have been added to the list of Specially Designated Nationals and whose property and interests in property are blocked pursuant to Executive Order 13448:

1. KO, MYINT MYINT (a.k.a. DAW MYINT MYINT KO); Burma; DOB 11 Jan 1946; wife of Saw Tun (individual) [BURMA]

2. MYINT, TIN LIN (a.k.a. DAW TIN LIN MYINT); Burma; DOB 25 Jan 1947; wife of Ye Myint (individual) [BURMA]

3. SOE, MYINT MYINT (a.k.a. DAW MYINT MYINT SOE); Burma; DOB 15 Jan 1953; wife of Nyan Win (individual) [BURMA]

4. THET, KHIN LAY (a.k.a. DAW KHIN LAY THET); Burma; DOB 19 Jun 1947; wife of Thura Shwe Mann (individual) [BURMA]

Dated: February 5, 2008.
Adam J. Szubin,
Director, Office of Foreign Assets Control.

[FR Doc. E8-2426 Filed 2-8-08; 8:45 am]

BILLING CODE 4811-42-P